ENVIRONMENTAL PROTECTION AGENCY

[FRL-7029-9]

Notice of Availability of a Draft Report on Costs Associated With the Total Maximum Daily Load Program and Request for Comments

AGENCY: Environmental Protection Agency (EPA).

ACTION: Notice of availability and request for comment.

SUMMARY: EPA has developed and is requesting comment on a draft report and two supporting technical documents on the total national costs associated with the Total Maximum Daily Load (TMDL) program. The TMDL program requires States to identify waters that are not meeting State water quality standards and to establish pollutant budgets, called TMDLs, to restore the quality of those waters. The draft report, and the support documents, were prepared in response to a directive contained in the Conference Report #106-988 describing the VA/HUD and Independent Agencies Appropriations Act for FY 2001. The Conference Report asked for a comprehensive assessment of resources required for the development and implementation of TMDLs, including costs to States and the public and private sectors. EPA will consider comments on this draft report and will then issue a final report.

DATES: Written comments should be submitted by December 7, 2001. Comments submitted electronically will be considered timely if they are submitted by 11:59 p.m. December 7, 2001.

ADDRESSES: You may send written comments to the W-00-31-II TMDL Comments Clerk, Water Docket (MC-4101); U.S. Environmental Protection Agency; 1200 Pennsylvania Ave., NW., Washington, DC 20460. Comments may be hand-delivered to the Water Docket, U.S. Environmental Protection Agency; 401 M Street, SW., EB-57, Washington, DC 20460; (202) 260-3027 between 9 a.m. and 4 p.m. Eastern Time, Monday through Friday excluding legal holidays. Comments may be submitted electronically to ow-docket@epamail.epa.gov. The draft report and two supporting documents are available for review in the Water Docket at the above address. The complete text of the draft report and supporting documents is available on the Internet at: http://www.epa.gov/OWOW/tmdl/costs. Copies of the complete draft can also be obtained by request from Myra Price at the above address, by E-mail at price.myra@epa.gov or by calling (202) 260-7108

FOR FURTHER INFORMATION CONTACT: John Wilson at (202) 260-7878 or Francoise Brasier at (202) 260-5668

SUPPLEMENTARY INFORMATION:

A. Background

The U.S. Environmental Protection Agency published a TMDL rule on July 13, 2000 (the July 2000 rule) to clarify existing TMDL program regulations, promulgated in 1985 and amended in 1992, and improve the TMDL program. The TMDL program is the framework by which EPA works cooperatively with the States, Territories, and authorized Tribes to restore those waters that do not achieve the clean water goals—water quality standards—set for them by the States.

The July 2000 rule generated considerable controversy. Particularly, there was concern that EPA's estimate of the cost of the July 2000 rule (i.e., $22.8 million per year, as described in the accompanying economic analysis) was unrealistic, and significantly underestimated the full cost of the TMDL program.

In response to these and other concerns, Congress directed EPA to conduct a more comprehensive assessment of the costs of developing and implementing TMDLs and report those findings to the Appropriations Committees. This comprehensive assessment includes the cost of monitoring impaired waters, developing TMDLs for the listed waters and implementing the TMDLs. These costs are based on both the existing program as well as the requirements of the July 2000 rule, which is not effective yet. The directive was contained in the Conference Report #106-988 describing the VA/HUD and Independent Agencies Appropriations Act for FY 2001. In response, EPA has prepared a draft report which is the subject of today's notice.

B. Key Findings

EPA's draft report estimates the total national cost to develop TMDLs and then compares the estimated cost to actual costs experienced by States and EPA to date. The report also estimates the costs to pollutant sources of implementing TMDLs to restore impaired waters under various scenarios. In addition, the report addresses economic analysis issues raised by the Comptroller General. The Comptroller General's comments can be found on the Internet at http://www.gao.gov /cgi-bin/getrpt ?GAO/RCED-00-206R.

Key findings of the report include:

1. The costs to pollutant sources for implementing the TMDL program are expected to be between approximately $1billion and $3.4 billion per year but might be higher or lower depending on the extent to which States choose to allocate more of the reductions to sources with lower control costs versus equal percentage reductions to sources regardless of costs.

The report examines costs under three potential scenarios: (1) A “least flexible” scenario which describes a uniform and inflexible approach for allocating point and nonpoint source pollutant loads, (2) a “moderately cost-effective” scenario under which pollutant load reductions are targeted to the appropriate point and nonpoint sources and (3) a “more cost-effective” scenario, under which a State could minimize costs by assigning most of the pollutant load reductions to sources that have relatively low costs for achieving these reductions. Under the “more cost-effective” scenario, the cost of measures to implement TMDLs for impaired waters now identified by States is estimated to be between $900 million and $3.2 billion per year. Under the “moderately cost-effective” scenario, costs would be expected to be between $1 billion and $3.4 billion per year. Under the “least flexible” scenario, costs might be as high as $4.3 billion per year.

2. The average costs of developing TMDLs is estimated to be between $63 million and $69 million per year nationwide over the next 15 years.

This estimate is based on the 36,000 TMDLs that will need to be developed for the various pollutants in the over 20,000 waterbodies identified as impaired. The average cost of developing an individual TMDL is estimated to be about $50,000, with a range of costs between $26,000 and over $500,000. The costs of TMDL development cited in this report are based on requirements of the existing TMDL program as well as new provisions added in July 2000, but not yet in effect. The costs of the additional requirements associated with the July 2000 regulations represent less than 10% of the total TMDL development cost estimated in this report.

3. The cost of water quality monitoring to support the development of TMDLs is expected to be approximately $17 million per year.

This is a preliminary national estimate of additional monitoring needed to support TMDL development and implementation from a limited survey of State experiences to date.

C. Request for Comments

EPA is requesting comments on all aspects of this draft report and the support documents. Please submit an original and three copies of your comments and enclosures (including references). To ensure that EPA can read, understand, and therefore properly respond to comments, the Agency would prefer that comments cite, where possible, the sections in the draft report or supporting documents to which each comment refers. Commenters should use a separate paragraph for each issue discussed.

Electronic comments must be submitted as a WordPerfect 5.1, WP6.1 or WP8 file or as an ASCII file avoiding the use of special characters. Comments and data will also be accepted on disks in WP 5.1, WP6.1 or WP8, or ASCII file format. Electronic comments on this Notice may be filed online at many Federal Depository Libraries. Commenters who want EPA to acknowledge receipt of their comments should include a self-addressed, stamped envelope. No facsimiles (faxes) or submissions in other electronic formats (e.g., Word, pdf, Excel) will be accepted.

The information received in response to this notice will be filed under docket number W-00-31-II, and includes referenced documents as well as printed, paper versions of electronic comments. The record is available for inspection from 9 to 4 p.m., Monday through Friday, excluding legal holidays at the Water Docket, EB57, U.S. Environmental Protection Agency Headquarters, 401 M St. SW., Washington, DC. For access to docket materials, please call (202) 260-3027 to schedule an appointment.

Dated: August 2, 2001.
Diane C. Regas,
Acting Assistant Administrator for Water.

[FR Doc. 01-20016 Filed 8-8-01; 8:45 am]

BILLING CODE 6560-50-P